DEPARTMENT OF HEALTH AND HUMAN SERVICES

Administration for Children and Families

Submission for OMB Review; Comment Request

Title: Child Care and Development Fund (CCDF) Tribal Reporting Requirements—ACF-700.

OMB No.: 0970-0430.

Description: The Child Care and Development Fund (CCDF) Tribal Annual Report (ACF-700) requests annual Tribal aggregate information on services provided through the CCDF, which is required by CCDF regulations (45 CFR parts 98 and 99). Tribal Lead Agencies (TLAs) are required to submit annual aggregate data appropriate to Tribal programs on children and families receiving CCDF-funded child care services. The revised ACF-700 report consists of two parts: (1) Administrative Data, and (2) Tribal Narrative. The content and format of the narrative section have been revised to make the form easier to complete with new check box formatting. These revisions will allow the Office of Child Care (OCC) to more easily generate and quantify data in the report. These changes will help us better understand Tribal activities as they relate to compliance, quality of child care, use of funds, and technical assistance needs. Information from the ACF-700 will be included in the Secretary's Report to Congress, as appropriate, and will be shared with all TLAs to inform them of CCDF-funded activities in other Tribal programs. CCDF-funded Tribes that receive their funds under Public Law 102-477 are not required to submit the ACF-700.

Respondents: Tribal Governments.

Annual Burden Estimates
Instrument | Number of respondents | Number of responses per respondent | Average burden hours per response | Total burden hours
ACF-700 Report | 260 | 1 | 38 | 9,880

Estimated Total Annual Burden Hours: 9,880.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2016-16697 Filed 7-14-16; 8:45 am]

BILLING CODE 4184-01-P